Title 3—

The President

Presidential Determination No. 2005-29 of July 14, 2005

Waiver of Restrictions on Providing Funds to the Palestinian Authority

Memorandum for the Secretary of State

Pursuant to the authority vested in me as President by the Constitution and laws of the United States, including section 550(b) of the Foreign Operations, Export Financing, and Related Programs Appropriations Act, 2005 (Div. D, Public Law 108-447)(the “Act”), I hereby certify that it is important to the national security interests of the United States to waive the provisions of section 550(a) of the Act, in order to provide funds appropriated to carry out chapter 4 of part II of the Foreign Assistance Act of 1961 to the Ministry of Finance of the Palestinian Authority in direct assistance for use on new projects in Gaza.

You are authorized and directed to transmit this determination to the Congress, accompanied by a report in accordance with section 550(d) of the Act, and to publish the determination in the Federal Register.

B

THE WHITE HOUSE,

Washington, July 14, 2005.

[FR Doc. 05-14610

Filed 7-21-05; 8:45 am]

Billing code 4710-10-P